DEPARTMENT OF THE TREASURY

Office of Foreign Assets Control

Additional Designations of Entities Pursuant to Executive Order 13391

AGENCY: Office of Foreign Assets Control, Treasury.

ACTION: Notice.

SUMMARY: The Treasury Department's Office of Foreign Assets Control (“OFAC”) is publishing the names of 4 newly-designated entities and individuals whose property and interests in property are blocked pursuant to Executive Order 13391 of November 22, 2005, “Blocking Property of Additional Persons Undermining Democratic Processes or Institutions in Zimbabwe”.

DATES: The designation by the Director of OFAC of the four entities and individuals identified in this notice, pursuant to Executive Order 13391, is effective January 30, 2008.

FOR FURTHER INFORMATION CONTACT: Assistant Director, Compliance Outreach & Implementation, Office of Foreign Assets Control, Department of the Treasury, 1500 Pennsylvania Avenue, NW. (Treasury Annex), Washington, DC 20220, Tel.: 202/622-2490.

SUPPLEMENTARY INFORMATION:

Electronic and Facsimile Availability

Information about this designation and additional information concerning OFAC are available from OFAC's Web site (http://www.treas.gov/ofac) or via facsimile through a 24-hour fax-on-demand service, Tel.: 202/622-0077.

Background

On November 22, 2005, the President issued Executive Order 13391 (the “Order”) with respect to Zimbabwe pursuant to, inter alia, the International Emergency Economic Powers Act (50 U.S.C. 1701-06). In the Order, the President took additional steps with respect to the national emergency declared in Executive Order 13288 of March 7, 2003, in order to address the continued political repression and the undermining of democratic processes and institutions in Zimbabwe. The new Order, which replaced and superseded Executive Order 13288, expanded the list of sanctions targets to include immediate family members of any individual designated pursuant to the Zimbabwe sanctions, as well as those persons providing assistance to any sanctions target. The President identified 128 individuals and 33 entities as subject to the economic sanctions in the Annex to the Order.

Section 1 of the Order blocks, with certain exceptions, all property, and interests in property, that are in, or hereafter come within, the United States or the possession or control of United States persons for persons listed in the Annex and those persons determined by the Secretary of the Treasury, after consultation with the Secretary of State, to satisfy any of the criteria set forth in subparagraphs (a)(ii)(A) through (a)(ii)(D) of section 1. On January 30, 2008, the Director of OFAC exercised the Secretary of the Treasury's authority to designate, pursuant to one or more of the criteria set forth in section 1, subparagraphs (a)(ii)(A) through (a)(ii)(D) of the Order, the following two individuals and two entities, whose names have been added to the list of Specially Designated Nationals and whose property and interests in property are blocked, pursuant to the Order:

1. BONYONGWE, Happyton Mabhuya; DOB 6 Nov 1960; POB Chikomba District, Zimbabwe; nationality Zimbabwe; Director General, Central Intelligence Organization (individual) [ZIMBABWE]

2. MUGABE, Leo (a.k.a. CDE MUGABE), 72 Green Groove Drive, Greendale, Harare, Zimbabwe; DOB 28 Feb 1957; alt. DOB 28 Aug 1962; MP for Makonde; Son of Sabina MUGABE; Nephew of Robert MUGABE (individual) [ZIMBABWE]

3. JONGWE PRINTING AND PUBLISHING COMPANY (a.k.a. JONGWE PRINTING & PUBLISHING COMPANY (PVT) LTD; a.k.a. JONGWE PRINTING AND PUBLISHING CO), Po Box 5988, Harare, Zimbabwe; 14 Austin Road, Coventry Road, Workington, Harare, Zimbabwe [ZIMBABWE]

4. ZIDCO HOLDINGS (a.k.a. ZIDCO HOLDINGS (PVT) LTD), 88 Robert Mugabe Road, Harare, Zimbabwe; Po Box 1275, Harare, Zimbabwe [ZIMBABWE]

Dated: January 30, 2008.
Adam J. Szubin,
Director, Office of Foreign Assets Control.

[FR Doc. E8-2228 Filed 2-6-08; 8:45 am]

BILLING CODE 4811-42-P